SMALL BUSINESS ADMINISTRATION

[Declaration of Disaster #3423, Amdt. #2]

State of Minnesota; Disaster Loan Area

In accordance with notices received from the Federal Emergency Management Agency, dated June 28 and July 1, 2002, the above-numbered Declaration is hereby amended to establish the incident period for this disaster as beginning on June 9, 2002 and continuing through June 28, 2002. The declaration is also amended to include Becker and Clearwater Counties in the State of Minnesota as disaster areas due to damages caused by severe storms, flooding and tornadoes beginning on June 9, 2002 and continuing through June 28, 2002.

In addition, applications for economic injury loans from small businesses located in the following contiguous counties may be filed until the specified date at the previously designated location: Hubbard, Otter Tail and Wadena Counties in Minnesota. All other counties contiguous to the above-named primary counties have been previously declared.

All other information remains the same, i.e., the deadline for filing applications for physical damage is August 13, 2002 and for economic injury the deadline is March 14, 2003.

(Catalog of Federal Domestic Assistance Program Nos. 59002 and 59008)

Dated: July 2, 2002.
Herbert L. Mitchell,
Associate Administrator for Disaster Assistance.

[FR Doc. 02-17261 Filed 7-9-02; 8:45 am]

BILLING CODE 8025-01-P